DEPARTMENT OF HOMELAND SECURITY

Coast Guard

33 CFR Part 165

[Docket No. USCG-2017-0832]

Safety Zone; Recurring Annual Event Held in Coast Guard Sector Boston Captain of the Port Zone

AGENCY: Coast Guard, DHS.

ACTION: Notice of enforcement of regulation.

SUMMARY: The Coast Guard will enforce one safety zone within the Captain of the Port Boston zone on September 17, 2017. This action is necessary to ensure the safety of vessels, spectators, and participants from hazards associated with swim event. During the enforcement period, no person or vessel, except for the safety vessels assisting with the events, may enter the safety zones without permission of the Captain of the Port (COTP) or their designated on-scene representative.

DATES: The regulation in 33 CFR 165.118 will be enforced for the safety zone identified in the SUPPLEMENTARY INFORMATION section below on September 17, 2017, from 8:50 a.m. to 9:50 a.m.

FOR FURTHER INFORMATION CONTACT: If you have questions about this notice of enforcement, call or email Mark Cutter, Sector Boston Waterways Management Division, U.S. Coast Guard; telephone 617-223-4000, email Mark.E.Cutter@uscg.mil.

SUPPLEMENTARY INFORMATION: The Coast Guard will enforce the safety zone listed in Table 1 from 33 CFR 165.118 on the specified dates and times specified:

Table 1 From 33 CFR 165.118
Name | Location | Date | Time
9.7 Boston Harbor Sharkfest Swim | All waters of Boston Inner Harbor, Piers Park East Boston to Fan Pier, South Boston, MA within the following points (NAD 83): 42°21.7′ N, 071°02.1′ W; 42°21.8′ N, 071°02.4′ W; 42°21.3′ N, 071°02.9′ W; 42°21.3′ N, 071°02.3′ W | September 17, 2017 | 8:50 a.m. to 9:50 a.m.

This notice of enforcement is issued under authority of 33 CFR 165.118 and 5 U.S.C. 552(a). During the enforcement period, persons and vessels are prohibited from entering into, transiting through, mooring, or anchoring within the safety zone unless they receive permission from the COTP or designated representative. In addition to this notice of enforcement in the Federal Register, the Coast Guard plans to provide mariners with advanced notification of this enforcement period via the Local Notice to Mariners.

Dated: September 12, 2017.
B.W. Kelly,
Commander, U.S. Coast Guard, Acting, Captain of the Port Boston.

[FR Doc. 2017-19752 Filed 9-15-17; 8:45 am]

BILLING CODE 9110-04-P